SOCIAL SECURITY ADMINISTRATION

[Docket No: SSA-2025-0008]

Agency Information Collection Activities: Proposed Request

The Social Security Administration (SSA) publishes a list of information collection packages requiring clearance by the Office of Management and Budget (OMB) in compliance with Public Law 104-13, the Paperwork Reduction Act of 1995, effective October 1, 1995. This notice includes a revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2025-0008] in your submitted response.

I. The information collections below are pending at SSA. SSA will submit them to OMB within 60 days from the date of this notice. To be sure we consider your comments, we must receive them no later than June 3, 2025. Individuals can obtain copies of the collection instruments by writing to the above email address.

1. Statement of Employer—20 CFR 404.801-404.803—0960-0030. When workers report they received wages from employers, but cannot provide proof of those earnings, and the wages do not appear in SSA's records of earnings, SSA uses Form SSA-7011-F4, Statement of Employer, to document the alleged wages. Specifically, the agency uses the form to resolve discrepancies in the individual's Social Security earnings record and to process claims for Social Security benefits. SSA only sends Form SSA-7011-F4 to employers if we are unable able to locate the earnings information within our own records. The respondents are employers who can verify wage allegations made by wage earners.

Type of Request: Revision of an OMB-approved information collection.

Modality of completion | Number of respondents | Frequency of response | Average burden per response (minutes) | Estimated total annual burden (hours) | Average theoretical hourly cost amount (dollars) * | Total annual opportunity cost (dollars) **
SSA-7011-F4 | 750 | 1 | 30 | 375 | * $31.48 | ** $11,805
* We based this figure on average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

2. Supplement to Claim of Person Outside the United States—20 CFR 422.505(b), 404.460, 404.463, and 42 CFR 407.27(c)—0960-0051. Claimants or beneficiaries (both United States (U.S.) citizens and aliens entitled to benefits) living outside the U.S. complete Form SSA-21 as a supplement to an application for benefits. SSA collects the information to determine eligibility for U.S. Social Security benefits for those months an alien beneficiary or claimant is outside the U.S., and to determine if tax withholding applies. In addition, SSA uses the information to: (1) Allow beneficiaries or claimants to request a special payment exception in an SSA restricted country; (2) terminate supplemental medical insurance coverage for recipients who request it, because they are, or will be, out of the U.S.; and (3) allow claimants to collect a lump sum death benefit if the number holder died outside the United States and we do not have information to determine whether the lump sum death benefit is payable under the Social Security Act. The respondents are Social Security claimants, or individuals entitled to Social Security benefits, who are, were, or will be residing outside the United States for three months or longer.

Type of Request: Revision of an OMB-approved information collection.

Modality of collection | Number of respondents | Frequency of response | Average burden per response (minutes) | Estimated total annual burden (hours) | Average theoretical hourly cost amount (dollars) * | Average wait time for teleservice centers (minutes) ** | Total annual opportunity cost (dollars) ***
Paper version—U.S. Residents | 143 | 1 | 14 | 33 | * $22.39 |  | *** $739
Paper version—Residents of a Tax Treaty Country | 755 | 1 | 9 | 113 | * 22.39 |  | *** 2,530
Paper version—Nonresident aliens | 570 | 1 | 8 | 76 | * 22.39 |  | *** 1,702
Intranet version—(MCS)—U.S. Residents | 371 | 1 | 11 | 68 | * 22.39 | 21 | *** 4,433
Intranet version—(MCS)—Residents of a Tax Treaty Country | 1,956 | 1 | 6 | 196 | * 22.39 | 21 | *** 19,726
Intranet version—(MCS)—Nonresident aliens | 1,485 | 1 | 5 | 124 | * 22.39 | 21 | *** 14,419
Totals | 5,280 |  |  | 610 |  |  | *** 43,549
* We based this figure on the combined average DI payments (https://www.ssa.gov/legislation/2024FactSheet.pdf) and the average U.S. worker's salary; as reported by Bureau of Labor Statistics data (https://www.bls.gov/oes/current/oes_nat.htm).
** We based this figure on the average FY 2025 wait times for teleservice centers, based on SSA's current management information data.
*** This figure does not represent actual costs that SSA is imposing on recipients of Social Security payments to complete this application; rather, these are theoretical opportunity costs for the additional time respondents will spend to complete the application. There is no actual charge to respondents to complete.

3. Student Reporting Form—20 CFR 404.352(b)(2), 404.367, 404.368, 404.415, 404.434, & 422.135—0960-0088. To qualify for Social Security Title II student benefits, student beneficiaries must be in full-time attendance status at an educational institution. In addition, SSA requires these beneficiaries to report events that may cause a reduction, termination, or suspension of their benefits. SSA collects such information on Forms SSA-1383 and SSA-1383-FC, to determine if the changes or events the student beneficiaries report will affect their continuing entitlement to SSA benefits. SSA also uses the SSA-1383 and SSA-1383-FC to calculate the correct benefit amounts for student beneficiaries. The respondents are Social Security Title II student beneficiaries.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1383 | 8,158 | 1 | 6 | 816 | * $7.25 | ** 23 | *** $28,587
SSA-1383-FC | 557 | 1 | 6 | 56 | * 7.25 | ** 23 | *** 1,958
Totals | 8,715 |  |  | 872 |  |  | *** 30,545
* We based this figure on the Federal minimum hourly wage, as reported by Bureau of Labor Statistics data. https://www.bls.gov/opub/reports/minimum-wage/2023/.
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

4. RSI/DI Quality Review Case Analysis—Sampled Number Holder, Form SSA-2930; RSI/DI Quality Review Case Analysis—Auxiliaries/Survivor, Form SSA-2931; Stewardship Annual Earnings Test Workbook, Form SSA-4659—0960-0189. Section 205(a) of the Social Security Act (Act) authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930 and SSA-2931, to establish a national payment accuracy rate for all cases in payment status, and to serve as a source of information regarding problem areas in the Retirement Survivors Insurance (RSI) and Disability Insurance (DI) programs. SSA also uses the information to measure the accuracy rate for newly adjudicated RSI or DI cases. SSA uses Form SSA-4659 to evaluate the effectiveness of the annual earnings test, and to use the results in developing ongoing improvements in the process. Respondents receive a notice for a telephone review using the SSA-8553 (Beneficiary Telephone Contact) or notice for a telephone review for the representative payee using the SSA-8554 (Rep Payee Telephone Contact). To help the beneficiary prepare for the interview, we include three forms with each notice: (1) SSA-85 (Information Needed to Review Your Social Security Claim), which lists the information the beneficiary will need to gather for the interview; (2) SSA-2935 (Authorization to the Social Security Administration to Obtain Personal Information), which verifies the beneficiary's correct payment amount, if necessary; and (3) SSA-8552 (Interview Confirmation), which confirms or reschedules the interview if necessary. The respondents are a statistically valid sample of all OASDI beneficiaries in current pay status or their representative payees.

Type of Request: Revision of an OMB-approved information collection.

Modality of completion | Number of respondents | Frequency of response | Average burden per response (minutes) | Estimated total annual burden (hours) | Average theoretical hourly cost amount (dollars) * | Average wait time for teleservice call centers (minutes) ** | Total annual opportunity cost (dollars) ***
SSA-2930 | 1,500 | 1 | 30 | 750 | * $22.39 | ** 21 | *** $28,547
SSA-2931 | 850 | 1 | 30 | 425 | * 22.39 | ** 21 | *** 16,188
SSA-4659 | 325 | 1 | 10 | 54 | * 22.39 | ** 21 | *** 3,762
SSA-8550 | 385 | 1 | 5 | 32 | * 22.39 | ** 21 | *** 3,739
SSA-8551 | 95 | 1 | 5 | 8 | * 22.39 | ** 21 | *** 918
SSA-8552 | 35 | 1 | 5 | 3 | * 22.39 | ** 21 | *** 336
SSA-8553 | 4,970 | 1 | 5 | 414 | * 22.39 | ** 21 | *** 48,228
SSA-8554 | 705 | 1 | 5 | 59 | * 22.39 | ** 21 | *** 6,851
SSA-8552 | 2,350 | 1 | 5 | 196 | * 22.39 | **2 1 | *** 22,815
SSA-85 | 3,850 | 1 | 5 | 321 | * 22.39 | ** 21 | *** 37,369
SSA-2935 | 2,350 | 1 | 5 | 196 | * 22.39 | ** 21 | *** 22,815
SSA-8510 + | 800 | 1 | 5 | 67 | * 22.39 | ** 19 | ***7,769
Totals | 18,215 |  |  | 2,525 |  |  | *** 199,337
+ Note: We also obtain approval for the SSA-8510 under OMB No. 0960-0707. However, here we only account for the burden used as part of the quality review process, and we do not account for the burden associated with the quality review process under 0960-0707.
* We based this figure on the combined average DI payments based on SSA's current FY 2025 data (https://www.ssa.gov/legislation/2024FactSheet.pdf) and on the average U.S worker's hourly wages, as reported by Bureau of Labor Statistics data (https://www.bls.gov/oes/current/oes_nat.htm).
** We based this figure on the average FY 2025 wait times for teleservice centers, based on SSA's current management information data.
*** This figure does not represent actual costs that SSA is imposing on recipients of Social Security payments to complete this application; rather, these are theoretical opportunity costs for the additional time respondents will spend to complete the application. There is no actual charge to respondents to complete the application.

5. Modified Benefit Formula Questionnaire—Foreign Pension—0960-0561. SSA applies the Windfall Elimination Provision (WEP), a modified benefit formula for calculating Title II Social Security retirement or disability benefits, for months payable before January 2024. For those months, WEP affects the benefits of certain beneficiaries who received both a non-covered pension or annuity (domestic or foreign) as well as a Title II Social Security retirement or disability benefit. A non-covered pension or annuity is one that is based on earnings where the employer did not withhold Social Security taxes. SSA uses the information collected on Form SSA-308 to determine how much (if any) of a foreign pension reduces the amount of the Social Security benefit before January 2024. Respondents complete Form SSA-308 during the initial claims process (only if filed before January 2024) as well as in post-entitlement situations when someone needs to report receipt of a new foreign pension received before January 2024. The respondents are Title II Social Security retirement and disability applicants and beneficiaries who became entitled to their benefit after 1985 and who also received a foreign pension before January 2024 while entitled to their Social Security benefit.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-308 | 2,465 | 1 | 10 | 411 | * $22.39 | ** 23 | *** $30,361
* We based this figure on the combined average DI payments based on SSA's current FY 2025 data (https://www.ssa.gov/legislation/2024FactSheet.pdf) and on the average U.S worker's hourly wages, as reported by Bureau of Labor Statistics data (https://www.bls.gov/oes/current/oes_nat.htm).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

6. Request for Business Entity Taxpayer Information—0960-0731. SSA requires Law firms or other business entities to complete Form SSA-1694, Request for Business Entity Taxpayer Information, if they wish to serve as appointed representatives and receive direct payment of fees from SSA. SSA uses the information to issue a Form 1099-MISC. SSA also uses the information to allow business entities to designate individuals to serve as entity administrators authorized to perform certain administrative duties on their behalf, such as providing bank account information, maintaining entity information, and updating individual affiliations. Respondents are law firms or other business entities with attorneys or other qualified individuals as partners or employees who represent claimants before SSA.

Type of Request: Revision of an OMB-approved information collection.

Modality of completion | Number of respondents | Frequency of response | Average burden per response (minutes) | Estimated total annual burden (hours) | Average theoretical hourly cost amount (dollars) * | Total annual opportunity cost (dollars) **
SSA-1694 paper version | 181 | 1 | 20 | 60 | * $84.84 | ** $5,090
* We based this figure on the average legal occupation's hourly salary, as reported by Bureau of Labor Statistics data (https://www.bls.gov/oes/current/oes_nat.htm#00-00000).
** This figure does not represent actual costs that SSA is imposing on recipients of Social Security payments to complete this application; rather, these are theoretical opportunity costs for the additional time respondents will spend to complete the application. There is no actual charge to respondents to complete the application.

Dated: April 1, 2025.
Tasha Harley,
Acting Reports Clearance Officer, Social Security Administration.

[FR Doc. 2025-05867 Filed 4-3-25; 8:45 am]

BILLING CODE 4191-02-P